ENVIRONMENTAL PROTECTION AGENCY

[EPA-HQ-OAR-2010-1064; 9921-72-OAR]

Federal Guidance Report No. 14: Radiation Protection Guidance for Diagnostic and Interventional X-Ray Procedures

AGENCY: Environmental Protection Agency.

ACTION: Notice.

SUMMARY: This document announces the availability of the U.S. Environmental Protection Agency's (EPA) updated Federal Guidance Report No. 14: Radiation Protection Guidance for Diagnostic and Interventional X-Ray Procedures (EPA 402-R-10003, November 2014). Federal Guidance Report No. 14 provides federal facilities that use diagnostic and interventional x-ray equipment with recommendations for keeping patient doses as low as reasonably achievable without compromising the quality of patient care.

FOR FURTHER INFORMATION CONTACT: Mike Boyd, Radiation Protection Division (6608J), Environmental Protection Agency, 1200 Pennsylvania Ave. NW., Washington, DC 20460; telephone, 202-343-9353; fax, 202-343-2304; electronic mail, boyd.mike@epa.gov.

SUPPLEMENTARY INFORMATION:

I. General Information

A. How can I get copies of this document and other related information?

1. Docket. EPA has established a docket for this action under Docket ID No. EPA-HQ-OAR-2010-1064. Publicly available docket materials are available either electronically through www.regulations.gov or in hard copy at the Air and Radiation Docket in the EPA Docket Center, (EPA/DC) EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the Air and Radiation Docket is (202) 566-1742. As provided in EPA's regulations at 40 CFR part 2, and in accordance with normal EPA docket procedures, if copies of any docket materials are requested, a reasonable fee may be charged for photocopying.

2. Electronic Access. You may access this Federal Register document electronically through the EPA Internet under the “Federal Register” listings at http://www.epa.gov/fedrgstr/.

II. Background

Federal Guidance Report No. 14: Radiation Protection Guidance for Diagnostic and Interventional X-Ray Procedures is an update to the 1976 x-ray guidance in Federal Guidance Report No. 9, which provides federal facilities that use diagnostic and interventional x-ray equipment with recommendations for keeping patient doses as low as reasonably achievable without compromising the quality of patient care.

The EPA-led Interagency Steering Committee on Radiation Standards (ISCORS) Work Group that developed Federal Guidance Report No. 14 included medical and radiation protection professionals from EPA, the Department of Health and Human Services, the Department of Veterans Affairs, the Department of Defense (Departments of the Army, Navy, and Air Force), the Occupational Safety and Health Administration and the Commonwealth of Pennsylvania.

On April 3, 2013, a proposed version of this guidance was published in the Federal Register, opening a 60 day public comment period. The ISCORS work group reviewed more than 900 comments, updating the document to address the feedback from the public and medical community.

This guidance will be issued to all federal facilities that perform diagnostic or interventional x-ray procedures. The recommendations in this guidance are not binding on any agency, but, at an agency's discretion, may be incorporated in whole or in part into their standard operating procedures or orders. Likewise, EPA hopes that the states and the private sector will find this guidance to be a useful reference, but there is no legal obligation for them to make use of it in any way; however, if followed, this guidance will improve the safety of diagnostic and interventional imaging.

The complete Federal Guidance Report No. 14: Radiation Protection Guidance for Diagnostic and Interventional X-Ray Procedures (EPA 402-R-10003, November 2014), can be accessed at http://www.epa.gov/radiation/federal/fgr-14.html.

Dated: January 15, 2015.
Gina McCarthy,
Administrator.

[FR Doc. 2015-01468 Filed 1-26-15; 8:45 am]

BILLING CODE 6560-50-P